DEPARTMENT OF COMMERCE

National Oceanic and Atmospheric Administration

50 CFR Part 622

[I.D. 060302B]

Gulf of Mexico Fishery Management Council; Public Hearings

AGENCY: National Marine Fisheries Service (NMFS), National Oceanic and Atmospheric Administration (NOAA), Commerce.

ACTION: Notice of scoping meetings; request for comments.

SUMMARY: The Gulf of Mexico Fishery Management Council (Council) will convene scoping meetings to receive comments on whether the Council should begin developing an amendment to the Reef Fish Fishery Management Plan to extend the time period for the Madison/Swanson and Steamboat Lumps marine reserves. A scoping meeting is part of the initial process of determining whether development of a management action should proceed.

DATES: The scoping meetings will be held in June. See SUPPLEMENTARY INFORMATION for specific dates and times.

ADDRESSES: Written comments should be sent to and copies of the scoping document are available from the Gulf Council.

Council address: Gulf of Mexico Fishery Management Council, 3018 U.S. Highway 301, North, Suite 1000, Tampa, FL 33619.

FOR FURTHER INFORMATION CONTACT: Mr. Steven Atran, Population Dynamics Statistician, Gulf of Mexico Fishery Management Council; telephone: (813) 228-2815.

SUPPLEMENTARY INFORMATION: The scoping meetings will be convened on the issue of whether the Council should begin developing an amendment to the Reef Fish Fishery Management Plan to extend the time period for the Madison/Swanson and Steamboat Lumps marine reserves.

The Madison/Swanson and Steamboat Lumps marine reserves were implemented on June 19, 2000 with a 4-year sunset provision, and will expire on June 16, 2004. The Madison/Swanson site is approximately 115 square nautical miles in size and is located about 40 nautical miles southwest of Apalachicola, FL. Steamboat Lumps is approximately 104 square nautical miles in size and is located about 95 nautical miles west of Tarpon Springs, FL. Within each area, fishing is prohibited for all species except for highly migratory species, i.e., tunas, marlin, oceanic sharks, sailfishes, and swordfish.

These marine reserves were created primarily to protect a portion of the gag spawning aggregations and to protect a portion of the offshore population of male gag. However, the areas are also suitable habitat and may provide protection for many other species, such as scamp, red grouper, warsaw grouper, speckled hind, red snapper, red porgy and others. A 4-year period was established to give the Council time to evaluate the utility of marine reserves. If the Council chooses to continue the Madison/Swanson and Steamboat Lumps marine reserves beyond June 2004, it must do so through a reef fish plan amendment. Non-action will result in the two reserves expiring on June 16, 2004, and the areas re-opening to all fishing.

During the scoping meetings, Dr. Chris Koenig, of Florida State University, who is one of the researchers studying the marine reserves, will give a presentation on his research to date. Public input will then be solicited as to whether management action should be initiated to continue the reserves beyond June 2004, and if so, what the scope of issues should be for consideration.

The scoping meetings will be held at the following locations and dates from 7 p.m.-10 p.m.

1. Wednesday, June 19, 2002, National Marine Fisheries Service, 3500 Delwood Beach Road, Panama City, FL 32408; 850-234-6541

2. Thursday, June 20, 2002, Tampa Airport Hilton, 2225 Lois Avenue, Tampa, FL 33607; telephone 813-877-6688

Copies of the scoping document for these meetings can be obtained by calling 813-228-2815.

Special Accommodations

These meetings are physically accessible to people with disabilities. Requests for sign language interpretation or other auxiliary aids should be directed to Anne Alford at the Council (see ADDRESSES) by June 12, 2002.

Dated: June 6, 2002.
Virginia M. Fay,
Acting Director, Office of Sustainable Fisheries, National Marine Fisheries Service.

[FR Doc. 02-14772 Filed 6-11-02; 8:45 am]

BILLING CODE 3510-22-S